DEPARTMENT OF COMMERCE

International Trade Administration

[A-570-886]

Notice of Amended Preliminary Determination of Sales at Less Than Fair Value: Polyethylene Retail Carrier Bags from the People's Republic of China

AGENCY: Import Administration, International Trade Administration, Department of Commerce.

ACTION: Notice of amended preliminary antidumping duty determination of sales at less than fair value: Polyethylene Retail Carrier Bags from the People's Republic of China.

EFFECTIVE DATE: February 20, 2004.

FOR FURTHER INFORMATION CONTACT: Kristin Case (United Wah) or Thomas Schauer (Rally Plastics), Import Administration, International Trade Administration, U.S. Department of Commerce, 14th Street and Constitution Avenue, N.W., Washington, D.C. 20230; telephone: (202) 482-3174 and (202) 482-0410, respectively.

SUPPLEMENTARY INFORMATION:

Significant Ministerial Error

The Department of Commerce (the Department) is amending the preliminary determination of sales at less than fair value in the antidumping duty investigation of polyethylene retail carrier bags from the People's Republic of China (PRC) to reflect the correction of significant ministerial errors it made in the margin calculations regarding Dongguan Huang Jiang United Wah Plastic Bag Factory (United Wah) and Rally Plastics Company, Limited (Rally Plastics), pursuant to 19 CFR 351.224(g)(1) and (g)(2). A ministerial error is defined as an error in addition, subtraction, or other arithmetic function, clerical error resulting from inaccurate copying, duplication, or the like, and any other similar type of unintentional error which the Secretary considers ministerial. See 19 CFR 351.224(f). A significant ministerial error is defined as an error, the correction of which, singly or in combination with other errors, would result in (1) a change of at least five absolute percentage points in, but not less than 25 percent of, the weighted-average dumping margin calculated in the original (erroneous) preliminary determination or (2) a difference between a weighted-average dumping margin of zero or de minimis and a weighted-average dumping margin of greater than de minimis or vice versa. See 19 CFR 351.224(g). We are publishing this amendment to the preliminary determination pursuant to 19 CFR 351.224(e). As a result of this amended preliminary determination, we have revised the antidumping rates for two respondents, Rally Plastics and United Wah. See discussion below.

We have also revised the antidumping rate for the following parties: Beijing Lianbin Plastics and Printing Company Limited (Beijing Lianbin); Dongguan Zhongqiao Combine Plastic Bag Factory (Dongguan Zhongqiao); Good-in Holdings Limited (Good-in Holdings); Guangdong Esquel Packaging Company, Limited (Guangdong Esquel); Nan Sing Plastics, Limited (Nan Sing); Ningbo Fanrong Plastic Products Company Limited (Ningbo Fanrong); Ningbo Huansen Plasthetics Company, Limited (Ningbo Huansen); Rain Continent Shanghai Company Limited (Rain Continent); Shanghai Dazhi Enterprise Development Company, Limited (Shanghai Dazhi); Shanghai Fangsheng Coloured Packaging Company Limited (Shanghai Fangsheng); Shanghai Jingtai Packaging Material Company, Limited (Shanghai Jingtai); Shanghai Light Industrial Products Import and Export Corporation (Shanghai Light Industrial); Shanghai Minmetals Development Limited (Shanghai Minmetals); Shanghai New Ai Lian Import and Export Company Limited (Shanghai New Ai Lian); Shanghai Overseas International Trading Company, Limited (Shanghai Overseas); Shanghai Yafu Plastics Industries Company Limited (Shanghai Yafu); Weihai Weiquan Plastic and Rubber Products Company, Limited (Weihai Weiquan); Xiamen Xingyatai Industry Company, Limited (Xiamen Xingyatai); Xinhui Henglong; Nantong Huasheng Plastic Products Company, Limited. The change in the rates is appropriate because we are amending some of the preliminary company-specific rates on which we based the average for these companies, as discussed below. See Memorandum to Richard Rimlinger from Kristin Case, Analysis for the Amended Preliminary Determination of Polyethylene Retail Carrier Bags from the People's Republic of China (PRC): Calculation of PRC-Wide Rate Based on Adverse Facts Available and the Non-Adverse Margin for Respondents Not Selected for Analysis, dated February 12, 2004.

Ministerial-Error Allegation

On January 26, 2004, the Department published its affirmative preliminary determination in this proceeding. See Notice of Preliminary Determination of Sales at Less Than Fair Value and Postponement of Final Determination: Polyethylene Retail Carrier Bags from the People's Republic of China, 69 FR 3544 (Preliminary Determination).

The Department received timely allegations of ministerial errors in the Preliminary Determination from the Polyethylene Retail Carrier Bag Committee and its members (the petitioners), Hang Lung Plastic Manufactory (Hang Lung), and Zhongshan Dongfeng Hung Wai Plastic Bag Manufactory (Zhongshan). The Department has reviewed its preliminary calculations and agrees that some of the errors which the parties alleged are ministerial errors within the meaning of 19 CFR 351.224(f).

The petitioners alleged ministerial errors with respect to Rally Plastics, United Wah, and Ming Pack. With respect to Rally Plastics, the petitioners alleged three ministerial errors: (1) the Department should have valued the recycled scrap input reported by Rally Plastics, (2) the Department should not have converted Rally Plastics' reported international freight because it was reported in U.S. dollars, (3) the Department should have inflated the surrogate-value figure for electricity. With respect to United Wah, the petitioners alleged alleged three ministerial errors: (1) the Department should not have converted United Wah's reported international freight because it was reported in U.S. dollars, (2) the Department should use the quantity variable reported in the U.S. sales database rather than the quantity variable reported in the factors-of-production database, (3) the Department should have inflated the surrogate-value figure for electricity.

We agree with all of the petitioners' ministerial-error allegations concerning Rally Plastics and United Wah. Because correction of these errors results in a change of at least five absolute percentage points in, but not less than 25 percent of, the weighted-average dumping margin calculated in the original (erroneous) preliminary determination, we have determined that these ministerial errors are “significant ministerial errors” pursuant to 19 CFR 351.224(g)(1) and (g)(2). Accordingly, we are amending the Preliminary Determination to reflect the correction of these significant ministerial errors made in the margin calculations for Rally Plastics and United Wah in that determination, pursuant to 19 CFR 351.224(e).

With respect to Ming Pack, the petitioners alleged three ministerial errors: (1) the Department should have valued the antiblocking additive usage reported by Ming Pack, (2) the Department should have included amounts for virgin resin that are consumed in the production of recycled scrap used to produce the subject merchandise, (3) the Department should have inflated the surrogate-value figure for electricity, (4) the Department should have included two U.S. sales transactions that it did not include in its margin calculation.

We do not agree that we made a clerical error with respect to valuing Ming Pack's recycled scrap. The petitioners allege that we omitted a resin component in our calculation of the surrogate value for Ming Pack's recycled scrap. This was not inadvertent. As we stated in the preliminary determination, “Ming Pak reported the use of recycled resin scrap in the production of its subject merchandise. Because the scrap represented the re-use of purchased raw materials, we only valued the labor and electricity used to recycle the scrap when valuing this input.” See Preliminary Determination, 69 FR at 3550. Therefore, the alleged omission was intentional and a ministerial-error amendment is not appropriate.

Furthermore, while we agree with the other errors raised by the petitioners with respect to Ming Pack, we find that correction of the alleged errors would increase the margin from 32.19 percent to 32.59 percent. Because the errors alleged do not result in a change of at least five absolute percentage points in the weighted-average dumping margin calculated in the original (erroneous) preliminary determination, we are not amending our preliminary determination with respect to Ming Pack.

Hang Lung alleged that the Department made a ministerial error by not converting its reported foreign-inland-freight expenses from Hong Kong dollars into U.S. dollar values. We reviewed this allegation and found that we inadvertently had not converted the Hong Kong dollar-denominated freight values to U.S. dollar values. Hang Lung's preliminary margin was de minimis and, with this correction, the margin remains de minimis. Therefore, we are not amending our preliminary determination with respect to Hang Lung.

Zhongshan alleged three ministerial errors: (1) the Department used the incorrect sales figure for allocating usage of plates, cellulose tape, and solvent, (2) the Department allocated cellulose tape usage to all U.S. sales rather than only to sales of printed bags, (3) the Department included the variable for the value of color master in addition to the usage rate for color master.

We agree with Zhongshan's allegations. We find, however, that correction of the alleged errors would reduce the margin from 57.09 percent to 52.82 percent. Because the errors alleged do not result in a change of at least five absolute percentage points in the weighted-average dumping margin calculated in the original (erroneous) preliminary determination nor at least 25 percent of the margin calculated, we are not amending our preliminary determination with respect to Zhongshan.

The collection of bonds or cash deposits and suspension of liquidation will be revised accordingly and parties will be notified of this determination, in accordance with section 733(d) and (f) of the Tariff Act of 1930, as amended, (the Act).

Amended Preliminary Determination

As a result of our correction of ministerial errors in the Preliminary Determination, we have determined that the following weighted-average dumping margins apply:

Exporter and Producer | Weighted-average percent margin
Hang Lung | 0.12
United Wah | 25.41
Nantong | 18.43
Rally Plastics | 18.56
Glopack | 4.45
Ming Pak | 32.19
Zhongshan | 57.09
Beijing Lianbin | 18.43
Dongguan Zhongqiao | 18.43
Good-in Holdings | 18.43
Guangdong Esquel | 18.43
Nan Sing | 18.43
Ningbo Fanrong | 18.43
Ningbo Huansen | 18.43
Rain Continent | 18.43
Shanghai Dazhi | 18.43
Shanghai Fangsheng | 18.43
Shanghai Jingtai | 18.43
Shanghai Light Industrial | 18.43
Shanghai Minmetals | 18.43
Shanghai New Ai Lian | 18.43
Shanghai Overseas | 18.43
Shanghai Yafu | 18.43
Weihai Weiquan | 18.43
Xiamen Xingyatai | 18.43
Xinhui Henglong | 18.43
PRC-wide Rate | 80.52

The PRC-wide rate has not been amended and applies to all entries of the subject merchandise except for entries from exporters/producers that are identified individually above. Moreover, the margins for Hang Lung, Glopack, and Zhongshan have not been amended. Further, because the Department's investigation focused on companies which exported their own merchandise, these rates are applicable to companies which manufacture and export their own merchandise.

International Trade Commission Notification

In accordance with section 733(f) of the Act, we have notified the ITC of our amended preliminary determination. If our final determination is affirmative, the ITC will determine before the later of 120 days after the date of the preliminary determination or 45 days after our final determination whether the domestic industry in the United States is materially injured, or threatened with material injury, by reason of imports, or sales (or the likelihood of sales) for importation, of the subject merchandise.

This determination is issued and published in accordance with sections 733(f) and 777(i)(1) of the Act and 19 CFR 351.224(e).

Dated: February 13, 2004.
Jeffrey May,
Acting Assistant Secretary for Import Administration.

[FR Doc. 04-3743 Filed 2-19-04; 8:45 am]

BILLING CODE 3510-DS-S